DEPARTMENT OF HOMELAND SECURITY

Bureau of Customs and Border Protection

Accreditation and Approval of SGS North America, Inc. as a Commercial Gauger and Laboratory

AGENCY: Bureau of Customs and Border Protection, Department of Homeland Security.

ACTION: Notice of approval of SGS North America, Inc., Carson, California, as a commercial gauger and laboratory.

SUMMARY: Notice is hereby given that, pursuant to 19 CFR 151.12 and 151.13, SGS North America, Inc., Carson, California 90746, has been approved to gauge and test petroleum and petroleum products, organic chemicals and vegetable oils, for customs purposes, in accordance with the provisions of 19 CFR 151.12 and 151.13. Anyone wishing to employ this entity to conduct laboratory analysis or gauger services should request and receive written assurances from the entity that it is accredited or approved by the Bureau of Customs and Border Protection to conduct the specific test or gauger service requested. Alternatively, inquiries regarding the specific test or gauger service this entity is accredited or approved to perform may be directed to the Bureau of Customs and Border Protection by calling (202) 344-1060. The inquiry may also be sent to http://www.cbp.gov/xp/cgov/import/operations_support/labs_scientific_svcs/org_and_operations.xml.

DATES: The approval of SGS North America, Inc. as a commercial gauger and approved laboratory became effective on May 26, 2011. The first triennial inspection date will be scheduled for May 2014.

FOR FURTHER INFORMATION CONTACT: Donald Cousins, Director, Scientific Services, Laboratories and Scientific Services, Bureau of Customs and Border Protection, 1331 Pennsylvania Avenue, NW., Suite 1500N, Washington, DC 20229, 202-344-1295.

Dated: August 16, 2011.
Ira S. Reese,
Executive Director, Laboratories and Scientific Services .

[FR Doc. 2011-26977 Filed 10-18-11; 8:45 am]

BILLING CODE 9111-14-P